DEPARTMENT OF HEALTH AND HUMAN SERVICES

National Institutes of Health

Center for Scientific Review; Amended Notice of Meeting

Notice is hereby given of a change in the meeting of the Neural Oxidative Metabolism and Death Study Section, February 20, 2014, 08:00 a.m. to February 21, 2014, 12:00 p.m., Fairmont Hotel San Francisco, 950 Mason Street, San Francisco, CA, 94108 which was published in the Federal Register on January 23, 2014, 79 FR 3836-3838.

The meeting will be held at The Argonaut Hotel, 495 Jefferson Street, San Francisco, CA 94109. The meeting date and time remain the same. The meeting is closed to the public.

Dated: February 7, 2014.
Anna Snouffer,
Deputy Director, Office of Federal Advisory Committee Policy.

[FR Doc. 2014-03106 Filed 2-12-14; 8:45 am]

BILLING CODE 4140-01-P